DEPARTMENT OF VETERANS AFFAIRS

Joint Biomedical Laboratory Research and Development and Clinical Science Research and Development Services Scientific Merit Review Board; Notice of Meetings

The Department of Veterans Affairs gives notice under the Public Law 92-463 (Federal Advisory Committee Act) that the panels of the Joint Biomedical Laboratory Research and Development and Clinical Science Research and Development Services Scientific Merit Review Board will meet from 8 a.m. to 5 p.m. on the dates indicated below:

Panel | Date(s) | Location
Hematology | November 16, 2011 | The Sheraton Crystal City.
Neurobiology-A | November 17, 2011 | The Sheraton Crystal City.
Neurobiology-E | November 17, 2011 | The Sheraton Crystal City.
Endocrinology-B | November 18, 2011 | The Sheraton Crystal City.
Cellular & Molecular Medicine | November 21, 2011 | The Sheraton Crystal City.
Surgery | November 22, 2011 | The Sheraton Crystal City.
Endocrinology-A | November 29-30, 2011 | The Sheraton Crystal City.
Neurobiology-D | November 29, 2011 | The Sheraton Crystal City.
Neurobiology-C | December 1-2, 2011 | The Sheraton Crystal City.
Infectious Diseases-B | December 2, 2011 | The Sheraton Crystal City.
Pulmonary Medicine | December 2, 2011 | The Sheraton Crystal City.
Cardiovascular Studies | December 5, 2011 | The Sheraton Crystal City.
Infectious Diseases-A | December 5, 2011 | *VA Central Office.
Epidemiology | December 7, 2011 | *VA Central Office.
Immunology | December 7, 2011 | The Sheraton Crystal City.
Nephrology | December 8, 2011 | The Sheraton Crystal City.
Oncology | December 8-9, 2011 | The Sheraton Crystal City.
Clinical Research Program | December 8-9, 2011 | The Sheraton Crystal City.
Gastroenterology | December 9, 2011 | The Sheraton Crystal City.
Mental Hlth & Behav Sci-A | December 12, 2011 | The Sheraton Crystal City.
Mental Hlth & Behav Sci-B | December 14, 2011 | The Sheraton Crystal City.
The addresses of the hotel and VA Central Office are:
The Sheraton Crystal City, 1800 Jefferson Davis Highway, Arlington, VA.
*VA Central Office, 131 M Street, NE., Washington, DC.

Teleconference

The purpose of the Merit Review Board is to provide advice on the scientific quality, budget, safety and mission relevance of investigator-initiated research proposals submitted for VA merit review consideration. Proposals submitted for review by the Board involve a wide range of medical specialties within the general areas of biomedical, behavioral and clinical science research.

The panel meetings will be open to the public for approximately one hour at the start of each meeting to discuss the general status of the program. The remaining portion of each panel meeting will be closed to the public for the review, discussion, and evaluation of initial and renewal research proposals.

The closed portion of each meeting involves discussion, examination, reference to staff and consultant critiques of research proposals. During this portion of each meeting, discussions will deal with scientific merit of each proposal, qualifications of personnel conducting the studies, the disclosure of which would constitute a clearly unwarranted invasion of personal privacy, as well as research information, the premature disclosure of which could significantly frustrate implementation of proposed agency action regarding such research proposals.

As provided by subsection 10(d) of Public Law 92-463, as amended, closing portions of these panel meetings is in accordance with 5 U.S.C., 552b(c) (6) and (9)(B). Those who plan to attend or would like to obtain a copy of minutes of the panel meetings and rosters of the members of the panels should contact LeRoy G. Frey, Ph.D., Chief, Program Review (10P9B), Department of Veterans Affairs, 810 Vermont Avenue, NW., Washington, DC 20420 at (202) 443-5674.

Dated: October 21, 2011.
By Direction of the Secretary.
Vivian Drake,
Committee Management Officer.

[FR Doc. 2011-27717 Filed 10-25-11; 8:45 am]

BILLING CODE P